DEPARTMENT OF COMMERCE

National Oceanic and Atmospheric Administration

RIN 0648-XF864

Endangered and Threatened Species; Take of Anadromous Fish

AGENCY: National Marine Fisheries Service (NMFS), National Oceanic and Atmospheric Administration (NOAA), Commerce.

ACTION: Notice; availability of evaluation of joint state/tribal harvest plan and request for comment.

SUMMARY: Notice is hereby given that the Sauk-Suiattle Indian Tribe, Swinomish Indian Tribal Community, Upper Skagit Indian Tribe, and the Skagit River System Cooperative and the Washington Department of Fish and Wildlife have jointly submitted a steelhead fishery resource management plan (RMP) to NMFS pursuant to the limitation on take prohibitions for actions conducted under Limit 6 of the 4(d) Rule for salmon and steelhead promulgated under the Endangered Species Act (ESA). The plan proposes to manage the harvest of natural-origin Skagit River (Washington State) steelhead as an independent steelhead management unit within the ESA-listed Puget Sound steelhead demographic population segment (DPS). The Plan proposes to implement these Skagit River steelhead fisheries pursuant to U.S. v. Washington. This document serves to notify the public of the availability for comment of the proposed evaluation and pending determination of the Secretary of Commerce (Secretary) as to whether the RMP meets the criteria under Limit 6 of the 4(d) Rule and as to whether implementation of the RMP will appreciably reduce the likelihood of survival and recovery of ESA-listed Puget Sound steelhead and Puget Sound Chinook salmon.

DATES: Comments must be received at the appropriate address (see ADDRESSES) no later than 5:00 p.m. Pacific time on January 8, 2018.

ADDRESSES: Written comments on the proposed evaluation and pending determination should be addressed to James Dixon, NMFS Sustainable Fisheries Division, 510 Desmond Drive, Suite 103, Lacey, WA 98503. Comments may be submitted by email. The mailbox address for providing email comments is: skagit-steelhead-harvest-plan.wcr@noaa.gov. Include in the subject line of the email comment the following identifier: Comments on Skagit River Steelhead Harvest Plan.

The documents are available on the Internet at www.westcoast.fisheries.noaa.gov. Comments received will also be available for public inspection, by appointment, during normal business hours by calling (360) 753-9579.

FOR FURTHER INFORMATION CONTACT: James Dixon at (360) 534-9329 or by email at james.dixon@noaa.gov.

SUPPLEMENTARY INFORMATION:

ESA-Listed Species Covered in This Notice

Steelhead (Oncorhynchus mykiss): Threatened, naturally produced and artificially propagated Puget Sound.

Chinook salmon (O. tshawytscha): Threatened, naturally produced and artificially propagated Puget Sound.

Background

The Sauk-Suiattle Indian Tribe, Swinomish Indian Tribal Community, Upper Skagit Indian Tribe, and the Skagit River System Cooperative and the Washington Department of Fish and Wildlife have jointly submitted a steelhead fishery RMP to NMFS pursuant to the limitation on take prohibitions for actions conducted under Limit 6 of the 4(d) Rule for salmon and steelhead promulgated under the Endangered Species Act (ESA). The plan was submitted in November of 2016, pursuant to limit 6 of the 4(d) Rule for ESA-listed salmon and steelhead. The RMP would manage the harvest of Skagit River natural-origin steelhead in the Skagit River and in the terminal marine area of the Skagit River (Marine Area 8).

As required by the ESA 4(d) Rule (65 FR 42422, July 10, 2000, as updated in 70 FR 37160, June 28, 2005), the Secretary is seeking public comment on this proposed evaluation and pending determination as to whether the RMP meets the criteria under Limit 6 of the 4(d) Rule and as to whether implementation of the RMP will appreciably reduce the likelihood of survival and recovery of ESA-listed Puget Sound steelhead and Puget Sound Chinook.

Authority

Under section 4 of the ESA, the Secretary of Commerce is required to adopt such regulations as he deems necessary and advisable for the conservation of species listed as threatened. The ESA salmon and steelhead 4(d) Rule (65 FR 42422, July 10, 2000, as updated in 70 FR 37160, June 28, 2005) specifies categories of activities that contribute to the conservation of listed salmonids and sets out the criteria for such activities. Limit 6 of the updated 4(d) Rule (50 CFR 223.203(b)(6)) further provides that the prohibitions of paragraph (a) of the updated 4(d) Rule (50 CFR 223.203(a)) do not apply to activities associated with a joint state/tribal artificial propagation plan provided that the joint plan has been determined by NMFS to be in accordance with the salmon and steelhead 4(d) Rule (65 FR 42422, July 10, 2000, as updated in 70 FR 37160, June 28, 2005).

Dated: November 29, 2017.
Angela Somma,
Chief, Endangered Species Division, Office of Protected Resources, National Marine Fisheries Service.

[FR Doc. 2017-26354 Filed 12-6-17; 8:45 am]

BILLING CODE 3510-22-P